DEPARTMENT OF ENERGY

Federal Energy Regulatory Commission

Combined Notice of Filings #2

Take notice that the Commission received the following electric rate filings:

Docket Numbers: ER11-3777-001; ER10-2042-009; ER10-1938-004; ER10-1937-002; ER10-1898-003; ER10-1934-003; ER10-1893-003 ER10-1867-002; ER10-1862-003.

Applicants: Calpine Oneta Power, LLC, Calpine Energy Services, L.P., Calpine Power America—CA, LLC, Calpine Power America—OR, LLC, CES Marketing V, L.P., CES Marketing IX, LLC, CES Marketing X, LLC, PCF2, LLC, Power Contract Financing, L.L.C.

Description: Supplement to December 31, 2012 Updated Market Power Analysis of Calpine Oneta Power, LLC, et. al. for the Southwest Power Pool, Inc. Region.

Filed Date: 4/17/13.

Accession Number: 20130417-5207.

Comments Due: 5 p.m. ET 5/8/13.

Docket Numbers: ER13-1304-000.

Applicants: Unitil Power Corp.

Description: Unitil Power Corp submits Statement of all billing transactions under the Amended Unitil System Agreement for the period January 1, 2012 to December 31, 2012 etc.

Filed Date: 4/18/13.

Accession Number: 20130418-5092.

Comments Due: 5 p.m. ET 5/9/13.

Docket Numbers: ER13-1305-000.

Applicants: Southeastern Power Administration.

Description: Southeastern Power Administration submits request for waiver to the new one year notice rollover requirement provision and continuation of point to point transmission service.

Filed Date: 4/18/13.

Accession Number: 20130418-5095.

Comments Due: 5 p.m. ET 5/9/13.

Take notice that the Commission received the following land acquisition reports:

Docket Numbers: LA13-1-000.

Applicants: Virginia Electric and Power Company, Dominion Energy Marketing, Inc., Dominion Nuclear Connecticut, Inc., Dominion Energy Kewaunee, Inc., Dominion Energy Brayton Point, Inc., Dominion Energy Manchester Street, Inc., Dominion Retail, Inc., Elwood Energy, LLC, Fairless Energy, LLC, NedPower Mt. Storm, LLC, Kincaid Generation, LLC, Fowler Rider Wind Farm, LLC.

Description: Quarterly Land Acquisition Report of Dominion Resource Services, Inc.

Filed Date: 4/18/13.

Accession Number: 20130418-5100.

Comments Due: 5 p.m. ET 5/9/13.

Take notice that the Commission received the following open access transmission tariff filings:

Docket Numbers: OA07-52-005; ER08-28-003.

Applicants: Puget Sound Energy, Inc.

Description: Puget Sound Energy, Inc. submits its annual compliance report on penalty assessments and distributions.

Filed Date: 4/18/13.

Accession Number: 20130418-5141.

Comments Due: 5 p.m. ET 5/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2013.
Nathaniel J. Davis, Sr.,
Deputy Secretary.

[FR Doc. 2013-09970 Filed 4-26-13; 8:45 am]

BILLING CODE 6717-01-P